DEPARTMENT OF TRANSPORTATION

National Highway Traffic Safety Administration

[Docket No. NHTSA-2004-17339]

Data Integrated Project Team (IPT) Report

AGENCY: National Highway Traffic Safety Administration (NHTSA), DOT.

ACTION: Request for comments.

SUMMARY: This notice announces the availability of a planning document describing the agency's current and planned activities and recommendations to improve traffic safety data. The agency is seeking public review and comment on the document.

DATES: Comments must be received no later than September 10, 2004.

ADDRESSES: Interested persons may obtain a copy of the plan by downloading a copy of the document from the Docket Management System, U.S. Department of Transportation, at the address provided below, or from NHTSA's Web site at http://www.nhtsa.dot.gov. Alternatively, interested persons may obtain a copy of the document by contacting the agency officials listed in the section titled, “For Further Information Contact,” immediately below.

Submit written comments to the Docket Management System, U.S. Department of Transportation, PL 401, 400 Seventh Street, SW., Washington, DC 20590-0001. Comments should refer to the Docket Number (NHTSA-2004-17339) and be submitted in two copies. If you wish to receive confirmation of receipt of your written comments, include a self-addressed, stamped postcard.

Comments may also be submitted to the docket electronically by logging onto the Docket Management System Web site at http://dms.dot.gov. Click on “Help & Information” to obtain instructions for filing comments electronically. In every case, the comment should refer to the docket number (NHTSA-2004-17339).

The Docket Management System is located on the Plaza level of the Nassif Building at the Department of Transportation at the above address. You can review public dockets there between the hours of 9 a.m. and 5 p.m., Monday through Friday, except Federal holidays. You can also review comments on-line at the DOT Docket Management System Web site at http://dms.dot.gov.

FOR FURTHER INFORMATION CONTACT: Joseph Carra, National Highway Traffic Safety Administration, Room 6125, 400 Seventh Street, SW., Washington, DC 20590, Telephone: 202-366-5375.

SUPPLEMENTARY INFORMATION: Despite significant gains since the enactment of Federal motor vehicle and highway safety legislation in the mid 1960's, the annual toll of traffic crashes remains tragically high. In 2003, 43,220 people were killed on the nation's highways and an additional 2.89 million people suffered serious injuries. Motor vehicle crashes are responsible for 95 percent of all transportation-related deaths and 99 percent of all transportation-related injuries, and are the leading cause of death for Americans age 2 and every age 4 through 33. Furthermore, traffic crashes are not only a grave public health problem for our nation, but also a significant economic burden. In 2000, traffic crashes cost our economy approximately $230 billion, or 2.3 percent of the U.S. Gross Domestic Product. The average cost for a critically injured survivor of a motor vehicle crash is estimated at $1.1 million over a lifetime.

Therefore, in order to address these safety problems, good data are required. Traffic safety data is the primary source of knowledge about the traffic safety environment, human behavior and vehicle performance. NHTSA has made improving traffic safety data one of the agency's highest priorities.

In the fall of 2003, NHTSA formed a multidisciplinary integrated project team (IPT) to address the role of data in achieving U.S. DOT's Safety Strategic Objective: “Enhance public health and safety by working toward the elimination of transportation-related deaths and injuries.” The team—composed of representatives from NHTSA headquarters and the regions, the Bureau of Transportation Statistics, Federal Highway Administration, and the Federal Motor Carrier Safety Administration—was to recommend priorities to NHTSA's Administrator on the best methods for obtaining the information needed to promote traffic safety and to identify how data could be improved to address the increasing complexity of traffic safety and vehicle issues. The report focuses on data that are routinely collected, accessible, and widely used to meet traffic safety data needs. Improving these data will benefit the traffic safety community and the public at large.

The effectiveness of informed decision making at the national, state and local levels, involving sound research, programs and policies, is directly dependent on data availability and quality. Accurate and comprehensive, standardized data provided in a timely manner, would allow the agency or decision-making entities at the state or local levels to:

• Determine the causes of crashes and their outcomes

• Evaluate strategies for preventing crashes and improving crash outcomes

• Support traffic safety data operations

• Measure progress in reducing crash frequencies and severities

• Update traffic safety policies

This report presents an in-depth look at routinely collected and accessible traffic safety data and provides initiatives and recommendations for federal and state stakeholders to improve traffic safety data needed to reduce deaths, injuries, injury severity and costs. The recommendations were grouped into the following categories:

1. Coordination and Leadership

2. Data Quality and Availability

3. Electronic Technologies and Methods

4. Uniform and Integrated Data

5. Facilitated Data Use (including training)

NHTSA believes its own initiatives, the Report's recommendations for both a U.S. DOT Highway Safety Traffic Records Coordinating Committee and for the States, will lead to both short term and long term solutions to improve data and maximize its use to achieve key DOT safety objectives.

NHTSA also assembled IPTs to address four other highway safety programs of special interest: safety belt use; impaired driving; vehicle rollover and vehicle compatibility. For each program of special interest, the agency is seeking public review and comment. Each of the four planning documents can be found on NHTSA's Web site at http://www.nhtsa.dot.gov/IPTReports.html and also on DOT's docket management system (DMS) at http://dms.dot.gov/. The docket numbers for each of the respective reports are as follows:

• Safety Belt Use—NHTSA-2003-14620;

• Impaired Driving—NHTSA-2003-14621;

• Rollover Mitigation—NHTSA-2003-14622;

• Vehicle Compatibility—NHTSA-2003-14623; and

• Data—NHTSA-2004-17339

Each document describes the safety problem and provides strategies the agency plans to pursue in addressing vehicle compatibility, increasing safety belt use, reducing impaired driving, and mitigating vehicle rollover, and improving traffic safety data. While the first four are closed, comments received about the Data document will be evaluated and incorporated, as appropriate, into planned agency activities.

How Do I Prepare and Submit Comments?

Your comments must be written and in English. To ensure that your comments are correctly filed in the Docket, please include the Docket number of this document (NHTSA-2004-17339) in your comments.

Please send two paper copies of your comments to Docket Management or submit them electronically. The mailing address is U.S. Department of Transportation Docket Management, Room PL-401, 400 Seventh Street, SW., Washington, DC 20590. If you submit your comments electronically, log onto the Docket Management System Web site at http://dms.dot.gov and click on “Help & Information” or “Help/Info” to obtain instructions.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, send three copies of your complete submission, including the information you claim to be confidential business information, to the Chief Counsel, NCC-01, National Highway Traffic Safety Administration, Room 5219, 400 Seventh Street, SW., Washington, DC 20590. Include a cover letter supplying the information specified in our confidential business information regulation (49 CFR Part 512).

In addition, send two copies from which you have deleted the claimed confidential business information to Docket Management, Room PL-401, 400 Seventh Street, SW., Washington, DC 20590.

Will the Agency Consider Late Comments?

In our response, NHTSA will consider all comments that Docket Management receives before the close of business on the comment closing date indicated above under DATES. To the extent possible, the agency will also consider comments that Docket Management receives after that date.

Please note that even after the comment closing date, NHTSA will continue to file relevant information in the Docket as it becomes available. Further, some people may submit late comments. Accordingly, NHTSA recommends that you periodically check the Docket for new material.

How Can I Read the Comments Submitted by Other People?

You may read the comments by visiting Docket Management in person at Room PL-401, 400 Seventh Street, SW., Washington, DC from 10 a.m. to 5 p.m., Monday through Friday.

You may also see the comments on the Internet by taking the following steps:

• Go to the Docket Management System (DMS) Web page of the Department of Transportation (http://dms.dot.gov).

• On that page, click on “search.”

• On the next page ((http://dms.dot.gov/search/) type in the five-digit Docket number shown at the beginning of this document (17339). Click on “search.”

• On the next page, which contains Docket summary information for the Docket you selected, click on the desired comments. You may also download the comments.

Authority: 49 U.S.C. 30111, 30117, 30168; delegation of authority at 49 CFR 1.50 and 501.8.

Noble N. Bowie,
Associate Administrator for Planning, Evaluation & Budget.

[FR Doc. 04-16902 Filed 7-26-04; 8:45 am]

BILLING CODE 4910-59-P